LEGAL SERVICES CORPORATION

Sunshine Act Meetings; Notice

DATE AND TIME: The Legal Services Corporation Board of Directors will meet telephonically on May 17, 2011. The meeting will begin at 11 a.m., Eastern Standard Time, and will continue until the conclusion of the Board's agenda.

LOCATION: F. William McCalpin Conference Center, Legal Services Corporation Headquarters Building, 3333 K Street, NW., Washington DC 20007.

PUBLIC OBSERVATION: Unless otherwise noticed, all meetings of the LSC Board of Directors are open to public observation. Members of the public who are unable to attend but wish to listen to a public proceeding may do so by following the telephone call-in directions provided below and are asked to keep their telephones muted to eliminate background noises. From time to time, the presiding Chair may solicit comments from the public.

CALL-IN DIRECTIONS FOR OPEN SESSION:

• Call toll-free number: 1-866-451-4981;

• When prompted, enter the following numeric pass code: 5907707348

• When connected to the call, please “MUTE” your telephone immediately.

STATUS OF MEETING: Open.

MATTERS TO BE CONSIDERED:

Open Session

1. Approval of agenda

2. Consider and act on the Board of Directors' report in response to the Inspector General's Semiannual Report to Congress for the period of October 1, 2010 through March 31, 2011

3. Consider and act upon proposed modification of the Helaine Barnett Fellowship Program

4. Staff report on LSC response to recent natural disasters in Alabama and Mississippi

5. Public Comment

6. Consider and act on other business

7. Consider and act on motion to adjourn meeting

CONTACT PERSON FOR INFORMATION: Katherine Ward, Executive Assistant to the Vice President & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward, at (202) 295-1500 or FR_NOTICE_QUESTIONS@lsc.gov.

Dated: May 10, 2011.
Victor M. Fortuno,
Vice President, General Counsel & Corporate Secretary.

[FR Doc. 2011-11884 Filed 5-11-11; 11:15 am]

BILLING CODE 7050-01-P